DEPARTMENT OF JUSTICE

Notice of Lodging of Proposed Consent Decree Under The Comprehensive Environmental Response, Compensation and Liability Act

On November 3, 2016, the Department of Justice lodged a proposed Consent Decree with the United States District Court for the Western District of Virginia in the lawsuit entitled United States v. Poor Charlie and Company, Civil Action No. 1:16-CV-00043.

The proposed Consent Decree will resolve claims alleged under the Comprehensive Environmental Response, Compensation and Liability Act (“CERCLA”) against Poor Charlie and Company (“Poor Charlie”) for costs incurred in responding to releases and threatened releases of hazardous substances at the Twin Cities Iron and Metal Site (the “Site”) located in Bristol, Virginia. The Consent Decree is based on Poor Charlie's limited ability to pay. Under the proposed Consent Decree, Poor Charlie: (1) Consents to entry of judgment against it in the amount of $3,401,833.31, and (2) assigns the rights to any proceeds from its insurance policies to the United States. In addition, Poor Charlie commits to creating an environmental trust for the benefit of the United States and West Virginia, to which Poor Charlie and all of its assets will be transferred. Under the environmental trust, Poor Charlie will direct its assets toward remediating certain properties it owns in West Virginia, and then distribute any remaining assets as specified in the trust agreement and the Consent Decree.

The publication of this notice opens a period for public comment on the Consent Decree. Comments should be addressed to the Assistant Attorney General, Environment and Natural Resources Division, and should refer to United States v. Poor Charlie and Company, D.J. Ref. No. 90-11-3-10712/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $26.50 (25 cents per page reproduction cost) payable to the United States Treasury. For a paper copy without the exhibits and signature pages, the cost is $8.00.

Robert Brook,
Assistant Section Chief, Environmental Enforcement Section, Environment and Natural Resources Division.

[FR Doc. 2016-27056 Filed 11-8-16; 8:45 am]

BILLING CODE 4410-15-P